DEPARTMENT OF DEFENSE

Office of the Secretary

[Docket ID: DoD-2014-OS-0129]

Notice of Availability (NOA) of an Environmental Assessment (EA) Addressing Implementation of the Real Property Master Plan at Defense Distribution Center Susquehanna, Pennsylvania

AGENCY: Defense Logistics Agency, Department of Defense.

ACTION: Notice of Availability (NOA) of an Environmental Assessment (EA) Addressing Implementation of the Real Property Master Plan at Defense Distribution Center Susquehanna, Pennsylvania.

SUMMARY: The Defense Logistics Agency (DLA) announces the availability of an Environmental Assessment (EA) Addressing Implementation of the Real Property Master Plan at Defense Distribution Center Susquehanna, Pennsylvania. The EA has been prepared as required under the National Environmental Policy Act (NEPA) (1969). In addition, the EA complies with DLA Regulation 1000.22. DLA has determined that the proposed action would not have a significant impact on the human environment within the context of NEPA. Therefore, the preparation of an environmental impact statement is not required.

DATES: Public comments will be accepted on or before September 25, 2014. Comments received by the end of the 30-day period will be considered when preparing the final version of the document.

ADDRESSES: You may submit comments to one of the following:

• Federal eRulemaking Portal: http://www.regulations.gov. Follow the instructions for submitting comments.

• Mail: Federal Docket Management System Office, 4800 Mark Center Drive, East Tower, 2nd floor, Suite 02G09, Alexandria, VA 22350-3100.

FOR FURTHER INFORMATION CONTACT: Ira Silverberg at (703) 767-0705 during normal business hours Monday through Friday, from 8:00 a.m. to 4:30 p.m. (EST) or by email: Ira.Silverberg@dla.mil.

SUPPLEMENTARY INFORMATION: The EA is available electronically at http://www.dla.mil/InstallationSupport/Documents/DEA_Susquehanna%20RPMP_070814.pdf. Hardcopies of the EA also are available at the Red Land Community Library, 48 Robin Hood Drive, Etters, PA 17319, and the Fairview Township Municipal Building, 599 Lewisberry Road, New Cumberland, PA 17070.

Dated: August 21, 2014.
Aaron Siegel,
Alternate OSD Federal Register Liaison Officer, Department of Defense.

[FR Doc. 2014-20238 Filed 8-25-14; 8:45 am]

BILLING CODE 5001-06-P